NATIONAL AERONAUTICS AND SPACE ADMINISTRATION

[Notice: 24-026]

Name of Information Collection: Survey of the Use of NASA Earth Observation Data by States, Tribes, and Territories

AGENCY: National Aeronautics and Space Administration (NASA).

ACTION: Notice of information collection.

SUMMARY: NASA, as part of its continuing effort to reduce paperwork and respondent burden, invites the general public and other Federal agencies to take this opportunity to comment on proposed and/or continuing information collections, as required by the Paperwork Reduction Act of 1995 (PRA).

DATES: Comments are due by June 3, 2024.

ADDRESSES: Written comments and recommendations for this information collection should be sent within 60 days of publication of this notice. You may send comments, identified by NASA Notice Number 24-026 to the Federal e-Rulemaking Portal: https://www.regulations.gov. Follow the instructions for sending comments.

FOR FURTHER INFORMATION CONTACT: Requests for additional information or copies of the information collection instrument(s) and instructions should be directed to NASA PRA Clearance Officer, Bill Edwards-Bodmer, NASA Headquarters, 300 E Street SW, JF0000, Washington, DC 20546, phone 757-864-7998, or email hq-ocio-pra-program@mail.nasa.gov.

SUPPLEMENTARY INFORMATION:

I. Abstract

As part of a requirement from the CHIPS and Science Act of 2022 (sec. 10824, Pub. L. 117-167, 136 Stat. 1742) the NASA Administrator shall arrange for the conduct of a survey of the use of NASA Earth observation data by States, Tribal organizations, and territories. The collection of this information will enable the agency to understand how Earth observation data is used, how it might impact decision making, and where any gaps might exist.

II. Methods of Collection

Electronic, virtual focus groups, and in-person focus groups.

III. Data

Title: Survey of the Use of NASA Earth Observation Data by States, Tribes, and Territories.

OMB Number: 2700-new.

Type of review: New collection.

Affected Public: Officials representing states, tribes, and territories.

Estimated Annual Number of Activities: 2.

Estimated Number of Respondents per Activity: 1.

Annual Responses: 2,000.

Estimated Time per Response: 1.25 hours (focus group + quantitative survey).

Estimated Total Annual Burden Hours: 2,500.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
PRA Clearance Officer, National Aeronautics and Space Administration.

[FR Doc. 2024-07058 Filed 4-2-24; 8:45 am]

BILLING CODE 7510-13-P